DEPARTMENT OF STATE

[Public Notice 4338]

30-Day Notice of Proposed Information Collection: Form DS-2038, Application for Certificate of International Educational Character; OMB Control Number 1405-0122

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement of previously approved collection whose approval has expired.

Originating Office: Bureau of Educational and Cultural Affairs (ECA-IIP/EX/PR).

Title of Information Collection: Application for Certificate of International Educational Character.

Frequency: Occasionally.

Form Number: DS-2038.

Respondents: Members of the public who seek a certificate of international educational character for audiovisual material.

Estimated Number of Respondents: 6.

Average Hours Per Response: 25 minutes.

Total Estimated Burden: 25 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Leslie M. Nolan, U.S. Department of State, Bureau of Educational and Cultural Affairs, 301 4th Street, SW., Room 534, Washington, DC 20547. Public comments and questions should be directed to the State Department Desk Officer, Office of Information and Regulatory Affairs, Office of Management and Budget (OMB), Washington, DC 20530, who may be reached on 202-395-3897.

Dated: March 31, 2003.
James D. Whitten,
Executive Director, Bureau of Educational and Cultural Affairs, Department of State.

[FR Doc. 03-9777 Filed 4-18-03; 8:45 am]

BILLING CODE 4710-05-P